DEPARTMENT OF TRANSPORTATION

Federal Aviation Administration

14 CFR Part 39

[Docket No. FAA-2011-0717; Directorate Identifier 2010-NM-108-AD; Amendment 39-16869; AD 2011-24-05]

RIN 2120-AA64

Airworthiness Directives; Airbus Airplanes

AGENCY: Federal Aviation Administration (FAA), Department of Transportation (DOT).

ACTION: Final rule.

SUMMARY: We are superseding an existing airworthiness directive (AD) that applies to certain Airbus Model A330-201, -202, -203, -223, -243, -301, -302, -303, -321, -322, -323, -341, -342, and -343 airplanes; and Model A340-200 and -300 series airplanes. This AD results from mandatory continuing airworthiness information (MCAI) originated by an aviation authority of another country to identify and correct an unsafe condition on an aviation product. The MCAI describes the unsafe condition as:

During A330 and A340 aeroplanes fatigue tests, cracks appeared on the right (RH) and left (LH) sides between the crossing area of the keel beam fitting and the front spar of the Centre Wing Box (CWB). This condition, if not corrected, could lead to keel beam rupture which would affect the area structural integrity.

* * * * *

We are issuing this AD to require actions to correct the unsafe condition on these products.

DATES: This AD becomes effective January 3, 2012.

The Director of the Federal Register approved the incorporation by reference of certain publications listed in this AD as of January 3, 2012.

The Director of the Federal Register approved the incorporation by reference of certain other publications listed in this AD as of September 13, 2007 (72 FR 44731, August 9, 2007).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on July 19, 2011 (76 FR 42602), and proposed to supersede AD 2007-16-02, Amendment 39-15141 (72 FR 44731, August 9, 2007). That NPRM proposed to correct an unsafe condition for the specified products. The MCAI states:

During A330 and A340 aeroplanes fatigue tests, cracks appeared on the right (RH) and left (LH) sides between the crossing area of the keel beam fitting and the front spar of the Centre Wing Box (CWB). This condition, if not corrected, could lead to keel beam rupture which would affect the area structural integrity.

In order to maintain the structural integrity of the aeroplane, EASA AD 2006-0315R1 required repetitive special detailed inspections on the horizontal flange of the keel beam in the area of first fastener hole aft of FR40.

This [EASA] AD, which supersedes EASA AD 2006-0315R1:

—Retains the inspection requirements of EASA AD 2006-0315R1,

—Extends the AD applicability to aeroplanes which have embodied Airbus modification 49202, and

—Modifies the inspection thresholds and intervals.

You may obtain further information by examining the MCAI in the AD docket.

Comments

We gave the public the opportunity to participate in developing this AD. We considered the single comment received.

Request To Update Service Information

Airbus requested that we incorporate the latest revisions of the primary service bulletins, Airbus Mandatory Service Bulletins A330-57-3081 and A340-57-4089, both including Appendix 01, both Revision 04, both dated May 31, 2011, and give credit for actions performed according to the revisions of these service bulletins specified in the NPRM (76 FR 42602, July 19, 2011).

We agree to specify Revision 04, dated May 31, 2011, of Airbus Mandatory Service Bulletins A330-57-3081 and A340-57-4089, and have changed paragraphs (h), (j)(1), (j)(3), (n), (n)(1)(i), (n)(1)(ii)(B), (n)(2)(ii), (p)(1), and (p)(2); tables 1 and 3; and Notes 3 and 4; of this AD accordingly. Revision 04 of those service bulletins states that no additional work is required for airplanes modified by any previous issue of those service bulletins. We have also added Revision 03, dated July 31, 2009, of those service bulletins to table 2 of this AD, “Credit Service Information for Certain Actions.”

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

Based on the service information, we estimate that this AD will affect about 35 products of U.S. registry.

For the 9 airplanes affected by the existing AD, the actions that are required by AD 2007-16-02, Amendment 39-15141 (72 FR 44731, August 9, 2007), and retained in this AD take about 41 work-hours per product, at an average labor rate of $85 per work hour. Required parts cost about $191 per product. Based on these figures, the estimated cost of the currently required actions is $3,676 per product.

For the 26 additional airplanes added in this AD, we estimate the actions in this AD will take about 41 work-hours per product, at an average labor rate of $85 per work hour. Required parts will cost about $191 per product. Based on these figures, the estimated cost of the proposed AD is $3,676 per product.

In addition, because this AD advises to contact the manufacturer for repair instructions, we cannot estimate the parts or labor costs for any necessary follow-on actions. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 42602, July 19, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15141 (72 FR 44731, August 9, 2007) and adding the following new AD:

2011-24-05 Airbus: Amendment 39-16869. Docket No. FAA-2011-0717; Directorate Identifier 2010-NM-108-AD.

Effective Date

(a) This airworthiness directive (AD) becomes effective January 3, 2012.

Affected ADs

(b) This AD supersedes AD 2007-16-02, Amendment 39-15141 (72 FR 44731, August 9, 2007).

Applicability

(c) This AD applies to the airplanes identified in paragraphs (c)(1) and (c)(2) of this AD; certificated in any category; except as provided by paragraph (c)(3) of this AD.

(1) Airbus Model A330-201, -202, -203, -223, -243, -301, -302, -303, -321, -322, -323, -341, -342, and -343 airplanes, all serial numbers, except those on which Airbus modification 55306 or 55792 has been embodied in production.

(2) Airbus Model A340-211, -212, -213, -311, -312, and -313 airplanes, all serial numbers, except those on which Airbus modification 55306 or 55792 has been embodied in production.

(3) This AD is not applicable to Airbus Model A340-211, -212, -213, -311, -312, and -313 airplanes on which the repair specified in Airbus Repair Drawing R57115053, R57115051, or R57115047 (installation of titanium doubler on both sides) has been accomplished. AD 2007-12-08, Amendment 39-15086 (72 FR 31171, June 6, 2007), applies to these airplanes.

Subject

(d) Air Transport Association (ATA) of America Code 57: Wings.

Reason

(e) The mandatory continuing airworthiness information (MCAI) states:

During A330 and A340 aeroplanes fatigue tests, cracks appeared on the right (RH) and left (LH) sides between the crossing area of the keel beam fitting and the front spar of the Centre Wing Box (CWB). This condition, if not corrected, could lead to keel beam rupture which would affect the area structural integrity.

* * * * *

Compliance

(f) You are responsible for having the actions required by this AD performed within the compliance times specified, unless the actions have already been done.

Restatement of Requirements of AD 2007-16-02, Amendment 39-15141 (72 FR 44731, August 9, 2007) With Revised Service Information

(g) For Model A330-201, -202, -203, -223, -243, -301, -321, -322, -323, -341, -342, and -343 airplanes, except those on which Airbus modification 49202 has been embodied in production, or Airbus Service Bulletin A330-57-3090 has been embodied in service, and Model A340-200 and -300 series airplanes, except those on which Airbus modification 49202 has been embodied in production or Airbus Service Bulletin A340-57-4098 has been embodied in service, and except Model A340-211, -212, -213, -311, -312, and -313 airplanes on which the repair specified in Airbus Repair Drawing R57115053, R57115051, or R57115047 has been accomplished: Do the actions required by paragraphs (h), (l), and (m) of this AD.

(h) For airplanes identified in paragraph (g) of this AD, within the mandatory threshold (flight cycles or flight hours) mentioned in the paragraph 1.E.(2) of Airbus Service Bulletin A340-57-4089, including Appendix 01, Revision 02; or A330-57-3081, including Appendix 01, Revision 02; both dated January 24, 2006; depending on the configuration of the aircraft model; or within 3 months after September 13, 2007 (the effective date of AD 2007-16-02 (72 FR 44731, August 9, 2007)); whichever occurs later: Carry out the NDT (non-destructive test) inspection of the hole(s) of the horizontal flange of the keel beam located on FR 40 datum on RH (right-hand) and/or LH (left-hand) side of the fuselage, in accordance with the instructions of the applicable service bulletin listed in table 1 of this AD. After the effective date of this AD, use only Airbus Mandatory Service Bulletin A330-57-3081, including Appendix 01, Revision 04, dated May 31, 2011; or Airbus Mandatory Service Bulletin A340-57-4089, including Appendix 01, Revision 04, dated May 31, 2011; as applicable. Inspection in accordance with Airbus A330/A340 200-300 Technical Disposition F57D03012810, Issue B, dated August 18, 2003; or Airbus A330/A340 Technical Disposition 582.0651/2002, Issue A, dated October 17, 2002; satisfies the inspection requirements for the first rotating probe inspection which is specified at the inspection threshold of this AD. Doing the inspection required by paragraph (n) of this AD terminates the requirements of this paragraph of this AD.

Note 1: In order to prevent large repairs or heavy maintenance, Airbus recommends to perform the above inspection according to recommended thresholds mentioned in paragraph 1.E.(2) of Airbus Service Bulletin A340-57-4089, including Appendix 01, Revision 02; or Airbus Service Bulletin A330-57-3081, including Appendix 01, Revision 02; both dated January 24, 2006.

Table 1—Acceptable Service Information for Certain Requirements of Paragraph (h) of This AD
Document | Revision | Date
Airbus Service Bulletin A330-57-3081, including Appendix 01 | 02 | January 24, 2006.
Airbus Mandatory Service Bulletin A330-57-3081, including Appendix 01 | 04 | May 31, 2011.
Airbus Service Bulletin A340-57-4089, including Appendix 01 | 02 | January 24, 2006.
Airbus Mandatory Service Bulletin A340-57-4089, including Appendix 01 | 04 | May 31, 2011.

(i) In case of any crack finding during the inspection required by paragraph (h) of this AD, before further flight, contact Airbus in order to get repair instructions before next flight, and repair before further flight.

(j) Should no crack be detected during the inspection required by paragraph (h) of this AD:

(1) Before further flight: Follow up the actions indicated in the flow charts, Figure 7, 8, or 9, of Airbus Service Bulletin A340-57-4089, including Appendix 01, Revision 02, dated January 24, 2006, or Airbus Mandatory Service Bulletin A340-57-4089, including Appendix 01, Revision 04, dated May 31, 2011; or Figure 5, 6, or 7, of Airbus Service Bulletin A330-57-3081, including Appendix 01, Revision 02, dated January 24, 2006, or Airbus Mandatory Service Bulletin A330-57-3081, including Appendix 01, Revision 04, dated May 31, 2011; in accordance with the instructions of Airbus Service Bulletin A340-57-4089, including Appendix 01, Revision 02, dated January 24, 2006, or Airbus Mandatory Service Bulletin A340-57-4089, including Appendix 01, Revision 04, dated May 31, 2011; or Airbus Service Bulletin A330-57-3081, including Appendix 01, Revision 02, dated January 24, 2006, or Airbus Mandatory Service Bulletin A330-57-3081, including Appendix 01, Revision 04, dated May 31, 2011; as applicable.

(2) Within 30 days after September 13, 2007, or within 30 days after doing the inspection required by paragraph (h) of this AD, whichever occurs later: Send the report of actions carried out in paragraph (j)(1) of this AD to Airbus.

(3) Renew the inspection at mandatory intervals given in paragraph 1.E.(2) of Airbus Service Bulletin A340-57-4089, including Appendix 01, Revision 02, dated January 24, 2006; or Airbus Service Bulletin A330-57-3081, including Appendix 01, Revision 02, dated January 24, 2006; as applicable; in accordance with the instructions of Airbus Service Bulletin A340-57-4089, including Appendix 01, Revision 02, dated January 24, 2006, or Airbus Mandatory Service Bulletin A340-57-4089, including Appendix 01, Revision 04, dated May 31, 2011; or Airbus Service Bulletin A330-57-3081, including Appendix 01, Revision 02, dated January 24, 2006, or Airbus Mandatory Service Bulletin A330-57-3081, including Appendix 01, Revision 04, dated May 31, 2011; as applicable; and send the inspection results to Airbus. Doing the inspection required by paragraph (n) of this AD terminates the requirements of this paragraph of this AD.

Note 2: In order to prevent large repairs or heavy maintenance, Airbus recommends to perform the above repetitive inspection according to recommended intervals mentioned in paragraph 1.E.(2) of Airbus Service Bulletin A340-57-4089, including Appendix 01, Revision 02, dated January 24, 2006; or Airbus Service Bulletin A330-57-3081, including Appendix 01, Revision 02, dated January 24, 2006.

(k) Upon detection of a crack during a repetitive inspection required by paragraph (j)(3) of this AD, before further flight, contact Airbus to get repair instructions, and repair before further flight.

(l) For airplanes identified in paragraph (g) of this AD: No additional work is required for compliance with paragraph (h) of this AD for aircraft on which the inspection specified in Airbus Service Bulletin A330-57-3081, dated October 30, 2003, or Revision 01, dated May 18, 2004; or Airbus Service Bulletin A340-57-4089, dated October 30, 2003, or Revision 01, dated March 2, 2004, has been accomplished. Nevertheless, the operators must check that their inspection program is in accordance with paragraph 1.E.(2) of Airbus Service Bulletin A340-57-4089, including Appendix 01, Revision 02, dated January 24, 2006; or Airbus Service Bulletin A330-57-3081, including Appendix 01, Revision 02, dated January 24, 2006; as applicable; for the repetitive inspection.

(m) For airplanes identified in paragraph (g) of this AD on which Airbus Modification 41652 is not embodied: When the aircraft has been modified in accordance with Airbus Service Bulletin A330-57-3090, dated March 27, 2006; or Airbus Service Bulletin A340-57-4098, dated March 27, 2006; as applicable; the repetitive inspections required by this AD are cancelled. In case of any crack finding during the modification: Where the applicable service bulletin specifies to contact Airbus, before further flight, contact Airbus to get repair instructions, and repair.

New Requirements of This AD

(n) At the applicable time in paragraph (n)(1) or (n)(2) of this AD: Do an NDT inspection of the hole(s) of the horizontal flange of the keel beam located on FR 40 datum on RH and/or LH side of the fuselage, in accordance with the Accomplishment Instructions of Airbus Mandatory Service Bulletin A330-57-3081, including Appendix 01, Revision 04, dated May 31, 2011; or Airbus Mandatory Service Bulletin A340-57-4089, including Appendix 01, Revision 04, dated May 31, 2011; as applicable. Inspection in accordance with Airbus A330/A340 200-300 Technical Disposition F57D03012810, Issue B, dated August 18, 2003; or Airbus A330/A340 Technical Disposition 582.0651/2002, Issue A, dated October 17, 2002; is acceptable for compliance with the inspection requirements for the first rotating probe inspection required by this paragraph. Doing the inspection required by this paragraph terminates the requirements of paragraphs (h) and (j)(3) of this AD.

(1) For airplanes on which an inspection required by paragraph (h) of this AD has not been done as of the effective date of this AD: At the applicable time specified in paragraph (n)(1)(i) or (n)(1)(ii) of this AD.

(i) For all airplanes except those identified in paragraph (g) of this AD: Within the “Mandatory Threshold” (flight cycles or flight hours) specified in table 1 of paragraph 1.E.(2) of the Accomplishment Instructions of Airbus Mandatory Service Bulletin A330-57-3081, including Appendix 01, Revision 04, dated May 31, 2011; or Airbus Mandatory Service Bulletin A340-57-4089, including Appendix 01, Revision 04, dated May 31, 2011; as applicable; or within 3 months after the effective date of this AD; whichever occurs later. The compliance times for configurations 02 through 06 specified in the “Mandatory Threshold” column in table 1 of paragraph 1.E., “Compliance,” are total flight cycles and total flight hours.

(ii) For airplanes identified in paragraph (g) of this AD: At the earlier of the times specified in paragraphs (n)(1)(ii)(A) and (n)(1)(ii)(B) of this AD.

(A) Within the “Mandatory Threshold” (flight cycles or flight hours) specified in table 1 of paragraph 1.E.(2) of Airbus Service Bulletin A340-57-4089, including Appendix 01, Revision 02, dated January 24, 2006; or Airbus Service Bulletin A330-57-3081, including Appendix 01, Revision 02, dated January 24, 2006; depending on the configuration of the aircraft model; or within 3 months after September 13, 2007; whichever occurs later. The compliance times for Model A330 post-mod. No. 41652 and pre-mod. No. 44360, post-mod. No. 44360, and pre-mod. No. 49202 (specified in Airbus Service Bulletin A330-57-3081, including Appendix 01, Revision 02, dated January 24, 2006); and Model A340 post-mod. No. 41652, post-mod. No. 43500 and pre-mod. No. 44360, post-mod. No. 44360 and pre-mod. No. 49202, and Weight Variant 027 (specified in Airbus Service Bulletin A340-57-4089, including Appendix 01, Revision 02, dated January 24, 2006); specified in the “Mandatory Threshold” column in table 1 of paragraph 1.E., “Compliance,” are total flight cycles and total flight hours.

(B) Within the “Mandatory Threshold” (flight cycles or flight hours) specified in table 1 of paragraph 1.E.(2) of the Accomplishment Instructions of Airbus Mandatory Service Bulletin A330-57-3081, including Appendix 01, Revision 04, dated May 31, 2011; or Airbus Mandatory Service Bulletin A340-57-4089, including Appendix 01, Revision 04, dated May 31, 2011; as applicable; or within 3 months after the effective date of this AD; whichever occurs later. The compliance times for configurations 02 through 06 specified in the “Mandatory Threshold” column in table 1 of paragraph 1.E., “Compliance,” are total flight cycles and total flight hours.

(2) For airplanes on which an inspection required by paragraph (h) of this AD has been done as of the effective date of this AD: At the earlier of the times specified in paragraphs (n)(2)(i) and (n)(2)(ii) of this AD.

(i) Within the “Mandatory Intervals” given in table 1 of paragraph 1.E.(2) of Airbus Service Bulletin A340-57-4089, including Appendix 01, Revision 02, dated January 24, 2006; or Airbus Service Bulletin A330-57-3081, including Appendix 01, Revision 02, dated January 24, 2006; as applicable.

(ii) Within the applicable “Mandatory Interval” specified in table 1 of Paragraph 1.E.(2). of Airbus Mandatory Service Bulletin A330-57-3081, including Appendix 01, Revision 04, dated May 31, 2011; or Airbus Mandatory Service Bulletin A340-57-4089, including Appendix 01, Revision 04, dated May 31, 2011; as applicable; or within 3 months after the effective date of this AD; whichever occurs later.

Note 3: To prevent large repairs or heavy maintenance, Airbus recommends to perform the above inspection according to recommended thresholds specified in paragraph 1.E.(2) of Airbus Mandatory Service Bulletin A330-57-3081, including Appendix 01, Revision 04, dated May 31, 2011; or Airbus Mandatory Service Bulletin A340-57-4089, including Appendix 01, Revision 04, dated May 31, 2011; as applicable.

(o) If any cracking is found during any inspection required by paragraph (n) of this AD, before further flight, repair in accordance with a method approved by the International Branch, ANM-116, Transport Airplane Directorate, FAA, or European Aviation Safety Agency (EASA) (or its delegated agent).

(p) If no cracking is found during any inspection required by paragraph (n) of this AD, do the actions required by paragraphs (p)(1) and (p)(2) of this AD.

(1) Before further flight: Install new or oversized fastener, as applicable; seal the fastener; and do all other applicable actions; in accordance with the Accomplishment Instructions of Airbus Mandatory Service Bulletin A330-57-3081, including Appendix 01, Revision 04, dated May 31, 2011; or Airbus Mandatory Service Bulletin A340-57-4089, including Appendix 01, Revision 04, dated May 31, 2011; as applicable.

(2) Repeat the inspection required by paragraph (n) of this AD thereafter at intervals not to exceed the mandatory intervals specified in Paragraph 1.E.(2). of Airbus Mandatory Service Bulletin A330-57-3081, including Appendix 01, Revision 04, dated May 31, 2011; or Airbus Mandatory Service Bulletin A340-57-4089, including Appendix 01, Revision 04, dated May 31, 2011; as applicable.

Note 4: To prevent large repairs or heavy maintenance, Airbus recommends to perform the above repetitive inspection according to recommended intervals mentioned in paragraph 1.E.(2) of Airbus Mandatory Service Bulletin A330-57-3081, including Appendix 01, Revision 04, dated May 31, 2011; or Airbus Mandatory Service Bulletin A340-57-4089, including Appendix 01, Revision 04, dated May 31, 2011; as applicable.

Credit for Actions Accomplished in Accordance With Previous Service Information

(q) Inspections done before the effective date of this AD in accordance with the service information specified in table 2 of this AD are acceptable for compliance with the corresponding inspection required by paragraph (n) of this AD.

Table 2—Credit Service Information for Certain Actions
Document | Revision | Date
Airbus Service Bulletin A330-57-3081, including Appendix 01 | 02 | January 24, 2006.
Airbus Mandatory Service Bulletin A330-57-3081 | 03 | July 31, 2009.
Airbus Service Bulletin A340-57-4089, including Appendix 01 | 02 | January 24, 2006.
Airbus Mandatory Service Bulletin A340-57-4089 | 03 | July 31, 2009.
Airbus Service Bulletin A330-57-3081 |  | October 30, 2003.
Airbus Service Bulletin A330-57-3081 | 01 | May 18, 2004.
Airbus Service Bulletin A340-57-4089 |  | October 30, 2003.
Airbus Service Bulletin A340-57-4089 | 01 | March 2, 2004.

(r) Modifying the fasteners installation in the junction keel beam fitting at FR 40, in accordance with Airbus Service Bulletin A330-57-3098, dated August 30, 2007; or Airbus Service Bulletin A340-57-4106, dated August 30, 2007; as applicable; before the effective date of this AD terminates the requirements of this AD; except for airplanes on which a crack was detected at hole 5 before oversizing of the keel beam (in accordance with step 3.B.(1)(b)3 of the Accomplishment Instructions of Airbus Service Bulletin A330-57-3098, dated August 30, 2007; or Airbus Service Bulletin A340-57-4106, dated August 30, 2007), before further flight, repair in accordance with a method approved by the International Branch, ANM-116, Transport Airplane Directorate, FAA, or EASA (or its delegated agent).

(s) Modifying the fasteners installation in the junction keel beam fitting at FR 40, in accordance with Airbus Service Bulletin A330-57-3098, excluding Appendix 1, Revision 01, dated July 31, 2009; or Airbus Service Bulletin A340-57-4106, excluding Appendix 1, Revision 01, dated July 31, 2009; as applicable; terminates the requirements of this AD.

(t) Modifying the fasteners installation in the junction keel beam fitting at FR 40, in accordance with Airbus Service Bulletin A330-57-3090, dated March 27, 2006; or Airbus Service Bulletin A340-57-4098, dated March 27, 2006; as applicable; terminates the requirements of this AD.

(u) In case of any crack finding during any modification specified paragraphs (r), (s), and (t) of this AD: Where the applicable service bulletin specifies to contact Airbus, before further flight, repair in accordance with a method approved by the International Branch, FAA, or EASA (or its delegated agent).

FAA AD Differences

Note 5: This AD differs from the MCAI and/or service information as follows: No differences.

Other FAA AD Provisions

(v) The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(w) Refer to MCAI European Aviation Safety Agency Airworthiness Directive 2010-0024, dated February 12, 2010, and the applicable service information specified in table 3 of this AD, for related information.

Table 3—Related Service Information
Document | Revision | Date
Airbus Service Bulletin A330-57-3081, including Appendix 01 | 02 | January 24, 2006.
Airbus Mandatory Service Bulletin A330-57-3081, including Appendix 01 | 04 | May 31, 2011.
Airbus Service Bulletin A340-57-4089, including Appendix 01 | 02 | January 24, 2006.
Airbus Mandatory Service Bulletin A340-57-4089, including Appendix 01 | 04 | May 31, 2011.
Airbus Service Bulletin A330-57-3090 |  | March 27, 2006.
Airbus Service Bulletin A330-57-3098, excluding Appendix 1 | 01 | July 31, 2009.
Airbus Service Bulletin A340-57-4106, excluding Appendix 1 | 01 | July 31, 2009.
Airbus Service Bulletin A340-57-4098 |  | March 27, 2006.
Airbus A330/A340 200-300 Technical Disposition F57D03012810 | Issue B | August 18, 2003.
Airbus A330/A340 Technical Disposition 582.0651/2002 | Issue A | October 17, 2002.

Material Incorporated by Reference

(x) You must use the following service information specified in paragraphs (x)(1), (x)(2), (x)(7), (x)(8), (x)(9), and (x)(10) of this AD, as applicable, to do the actions required by this AD, unless the AD specifies otherwise. If you accomplish the optional actions specified by this AD, you must use the service information specified in paragraphs (x)(3), (x)(4), (x)(5), (x)(6), (x)(9), and (x)(10) of this AD, as applicable, to perform those actions, unless the AD specifies otherwise. The Director of the Federal Register approved the incorporation by reference (IBR) under 5 U.S.C. 552(a) and 1 CFR part 51 of the following service information on the date specified:

(1) Airbus Mandatory Service Bulletin A330-57-3081, including Appendix 01, Revision 04, dated May 31, 2011, approved for IBR January 3, 2012.

(2) Airbus Mandatory Service Bulletin A340-57-4089, including Appendix 01, Revision 04, dated May 31, 2011, approved for IBR January 3, 2012.

(3) Airbus Service Bulletin A330-57-3098, excluding Appendix 1, Revision 01, dated July 31, 2009, approved for IBR January 3, 2012.

(4) Airbus Service Bulletin A340-57-4106, excluding Appendix 1, Revision 01, dated July 31, 2009, approved for IBR January 3, 2012.

(5) Airbus A330/A340 200-300 Technical Disposition F57D03012810, Issue B, dated August 18, 2003, approved for IBR January 3, 2012.

(6) Airbus A330/A340 Technical Disposition 582.0651/2002, Issue A, dated October 17, 2002, approved for IBR January 3, 2012.

(7) Airbus Service Bulletin A330-57-3081, including Appendix 01, Revision 02, dated January 24, 2006, approved for IBR September 13, 2007 (72 FR 44731, August 9, 2007).

(8) Airbus Service Bulletin A340-57-4089, including Appendix 01, Revision 02, dated January 24, 2006, approved for IBR September 13, 2007 (72 FR 44731, August 9, 2007).

(9) Airbus Service Bulletin A330-57-3090, March 27, 2006, approved for IBR September 13, 2007 (72 FR 44731, August 9, 2007).

(10) Airbus Service Bulletin A340-57-4098, March 27, 2006, approved for IBR September 13, 2007 (72 FR 44731, August 9, 2007).

(11) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(12) You may review copies of the service information at the FAA, Transport Airplane Directorate, 1601 Lind Avenue SW., Renton, Washington. For information on the availability of this material at the FAA, call (425) 227-1221.

(13) You may also review copies of the service information that is incorporated by reference at the National Archives and Records Administration (NARA). For information on the availability of this material at an NARA facility, call (202) 741-6030, or go to http://www.archives.gov/federal_register/code_of_federal_regulations/ibr_locations.html.

Issued in Renton, Washington, on November 7, 2011.
Kalene C. Yanamura,
Acting Manager, Transport Airplane Directorate, Aircraft Certification Service.

[FR Doc. 2011-29803 Filed 11-28-11; 8:45 am]

BILLING CODE 4910-13-P